DEPARTMENT OF ENERGY

Federal Energy Regulatory Commission

[Docket No. AD24-10-000]

Reliability Technical Conference; Second Supplemental Notice of Commissioner-Led Technical Conference

As announced in the Notices of Technical Conference issued in this proceeding on July 9, 2024, and September 24, 2024, the Federal Energy Regulatory Commission (Commission) will convene its annual Commissioner-led Reliability Technical Conference on Wednesday, October 16, 2024. The conference will take place from approximately 10:00 a.m. to 12:45 p.m. Eastern time. The conference will be held in-person at the Commission's headquarters at 888 First Street NE, Washington, DC 20426 in the Commission Meeting Room. The conference will be available to view online.

The purpose of this conference is to discuss policy issues related to the reliability and security of the Bulk-Power System. Attached to this Supplemental Notice is an agenda for the technical conference, which includes the technical conference program and expected panelists.

While the technical conference is not for the purpose of discussing any specific matters before the Commission, some discussions may involve issues raised in proceedings that are currently pending before the Commission. These proceedings include, but are not limited to:

| Docket Nos.
PJM Interconnection, L.L.C | ER24-2172-000 ER24-2172-001
Midcontinent Independent System Operator, Inc | ER23-2977-000 ER23-2977-001 ER23-2977-002 ER23-2977-003
Southwest Power Pool, Inc | ER24-2953-000
Southwest Power Pool, Inc | ER24-1317-000
Complaint of Sierra Club v. Southwest Power Pool, Inc | EL24-96-000
Southwest Power Pool, Inc | ER24-2397-000
Southwest Power Pool, Inc | ER24-1221-000
PJM Interconnection, L.L.C | ER24-2447-000 ER24-2447-001
Midcontinent Independent System Operator, Inc | ER24-1638-000
PJM Interconnection, L.L.C | ER24-2995-000
California Independent System Operator Corporation | ER24-2671-000
Midcontinent Independent System Operator, Inc | ER24-2797-000
Southwest Power Pool, Inc | ER24-2798-000
Midcontinent Independent System Operator, Inc | ER24-2871-000
Southwest Power Pool, Inc | ER24-2825-000
Southwest Power Pool, Inc | ER24-2184-000
Southwest Power Pool, Inc | ER24-2185-000
Complaint of Michael Mabee | EL21-99-000
Baltimore Gas & Electric Company and PECO Energy Company | EL24-149-000

The technical conference will be open to the public. Advance registration is not required, and there is no fee for attendance. Information will also be posted on the Calendar of Events on the Commission's website, www.ferc.gov, prior to the event.

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this conference, please contact Michael Gildea at Michael.Gildea@ferc.gov or (202) 502-8420 or Lodie White at Lodie.White@ferc.gov or (202) 502-8453. For information related to logistics, please contact Sarah McKinley at Sarah.Mckinley@ferc.gov or (202) 502-8368.

Dated: October 7, 2024.
Debbie-Anne A. Reese,
Acting Secretary.

[FR Doc. 2024-23677 Filed 10-11-24; 8:45 am]

BILLING CODE 6717-01-P